DEPARTMENT OF DEFENSE

Office of the Secretary

Establishment of Department of Defense Federal Advisory Committees

AGENCY: Department of Defense.

ACTION: Notice; Establishment of Federal Advisory Committee.

SUMMARY: Under the provisions of section 581 of Public Law 110-181, the Federal Advisory Committee Act of 1972, (5 U.S.C. Appendix, as amended), the Sunshine in the Government Act of 1976 (5 U.S.C. 552b, as amended), and 41 CFR 102-3.65, the Department of Defense gives notice that it is establishing the Department of Defense Military Family Readiness Council (hereafter referred to as the Council).

The Council is a non-discretionary federal advisory committee established under the authority of section 581 of Public Law 110-181 and 41 CFR 102-3.50(a) to: (a) Review and make recommendations to the Secretary of Defense regarding the policy and plans required under 10 U.S.C. 1781b; (b) monitor requirements for the support of military family readiness by the Department of Defense; and (c) evaluate and assess the effectiveness of the military family readiness programs and activities of the Department of Defense.

The Department of Defense Military Family Readiness Council is required by statute to submit an annual report to the Secretary of Defense and the congressional oversight committees on military family readiness. This report must be submitted no later than February 1st of each year.

The Department of Defense Military Family Readiness Council shall be composed of a chairperson and no more than eleven additional members. Pursuant to federal statute, the membership shall be:

1. The Under Secretary of Defense for Personnel and Readiness, who shall serve as the chair of the Council;

2. One representative of each Military Service;

3. Three individuals appoint by the Secretary of Defense from among representatives of military family organizations; and

4. The senior enlisted advisors of each Military Service.

With regard to the representatives from each Military Service, the Secretary of Defense has appointed the deputies of each Military Service to serve on the Council; their appointment will be based upon their ex-officio position in the Department of Defense. As for the representatives of the military family organizations, these individuals will be appointed as experts and consultants under the authority of 5 U.S.C. 3109, and they will serve as special government employees. With the exception of travel and per diem for official travel, the special government employees shall serve without compensation.

The Department of Defense intends to authorize the Department of Defense Military Family Readiness Council to establish and use subcommittees, and the Council, to include any subcommittees, will operate under the provisions of the Federal Advisory Committee Act of 1972, the Sunshine in the Government Act of 1976 (5 U.S.C. 552b, as amended), and 41 CFR, Parts 102-3 through 102-3.185.

Such subcommittees or workgroups shall not work independently of the chartered Council, and shall report all their recommendations and advice to the Council for full deliberation and discussion. Subcommittees or workgroups have no authority to make decisions on behalf of the chartered Council nor can they report directly to the Department of Defense or any federal officers or employees who are not Council Members.

FOR FURTHER INFORMATION CONTACT: Contact Jim Freeman, Deputy Committee Management Officer for the Department of Defense, 703-601-6128.

SUPPLEMENTARY INFORMATION: The Council shall meet at the call of the Council's Designated Federal Officer, in consultation with the Council's chairperson. The Designated Federal Officer, pursuant to DoD policy, shall be a full-time or permanent part-time DoD employee, and shall be appointed in accordance with established DoD policies and procedures. The Designated Federal Officer or duly appointed Alternate Designated Federal Officer shall attend all committee meetings and subcommittee meetings.

Pursuant to 41 CFR 102-3.105(j) and 102-3.140, the public or interested organizations may submit written statements to the Department of Defense Military Family Readiness Council membership about the Council's mission and functions. Written statements may be submitted at any time or in response to the stated agenda of planned meeting of the Department of Defense Military Family Readiness Council.

All written statements shall be submitted to the Designated Federal Officer for the Department of Defense Military Family Readiness Council, and this individual will ensure that the written statements are provided to the membership for their consideration. Contact information for the Department of Defense Military Family Readiness Council's Designated Federal Officer, once appointed, may be obtained from the GSA's FACA Database— https://www.fido.gov/facadatabase/public.asp.

The Designated Federal Officer, pursuant to 41 CFR 102-3.150, will announce planned meetings of the Department of Defense Military Family Readiness Council. The Designated Federal Officer, at that time, may provide additional guidance on the submission of written statements that are in response to the stated agenda for the planned meeting in question.

Dated: November 6, 2008.
Patricia L. Toppings,
OSD Federal Register Liaison Officer, Department of Defense.

[FR Doc. E8-27086 Filed 11-13-08; 8:45 am]

BILLING CODE 5001-06-P